DEPARTMENT OF THE INTERIOR

Fish and Wildlife Service

[Docket No. FWS-R8-FAC-2024-0150; FXFR1335088KRF0-256-FF08EACT00; OMB Control Number 1018-New]

Agency Information Collection Activities; Klamath Basin Juvenile Salmon Monitoring Data System

AGENCY: Fish and Wildlife Service, Interior.

ACTION: Notice of information collection; request for comment.

SUMMARY: In accordance with the Paperwork Reduction Act of 1995, we, the U.S. Fish and Wildlife Service (Service), are proposing a new information collection in use without Office of Management and Budget (OMB) approval.

DATES: Interested persons are invited to submit comments on or before January 6, 2025.

ADDRESSES: Send your comments on the information collection request (ICR) by one of the following methods (please reference “1018-Klamath” in the subject line of your comments):

• Internet (preferred): https://www.regulations.gov. Follow the instructions for submitting comments on Docket No. FWS-R8-FAC-2024-0150.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Klamath River basin historically supported large runs of Chinook Salmon (Oncorhynchus tshawytscha), Coho Salmon (O. kisutch), steelhead (O. mykiss), and other anadromous fishes (KRBFTF 1991; NAS 2004; USDOI and NMFS 2012). These species contribute to economically and culturally important subsistence, sport, and commercial fisheries. However, abundance of anadromous fish species has declined dramatically due to a variety of factors, including overfishing, logging, mining, road building, livestock grazing, water diversion, wetland conversion, and dam construction (KRBFTF 1991; NAS 2004; USDOI and NMFS 2012).

In 2000, the Service, in collaboration with the Karuk Tribe and the U.S. Geological Survey, began trapping juvenile salmonids annually on the Klamath River between Iron Gate Dam and the Scott River confluence, in order to collect outmigration timing data and weekly catch of young-of-the-year (age-0) Chinook Salmon to calibrate the production model SALMOD (Bartholow et al. 2002). Beginning in 2006, the objectives of this ongoing monitoring project shifted to generate weekly stratified estimates of production (Gough et al. 2015) and prevalence of infection with the parasite Ceratonova shasta (Nichols and True 2007; Nichols et al. 2009; True et al. 2010, 2011, 2013, 2016; Bolick et al. 2012, 2013). Additionally, these data have been used to develop and calibrate an improved salmon production model, the Stream Salmonid Simulator, or S3 Model (Perry et al. 2018, 2019), which is being used as a decision-support tool to aid in water management (Perry et al. 2019). Data generated by this project are also useful for assessing the status and trends of salmonid populations in the Klamath River.

The authorities for Service activities in restoring fishery resources of the Klamath Basin are described in several acts, the most significant being the Fish and Wildlife Act of 1956 (16 U.S.C. 742(a)-754), Fish and Wildlife Coordination Act (16 U.S.C. 661-666), Endangered Species Act (16 U.S.C. 1531 et seq.), Federal Power Act (16 U.S.C. 791 et seq.), Klamath Termination Act of 1954 (25 U.S.C. 564), and Anadromous Fish Conservation Act (16 U.S.C. 757a et seq.), among others.

We collect the following information in conjunction with submissions in the Klamath Basin Juvenile Salmon Monitoring Data System:

1. Trapping event data:

a. Event date, site, trap identification, and crew;

b. Weather conditions;

c. Dates traps set and pulled;

d. Species type, count, and length;

e. Mortality counts and external abnormalities;

f. Box data, to include measurements, saturation, temperature, and pH level; and

g. Comments.

2. Marking event data:

a. Event date, site, trap identification, and crew;

b. Origin;

c. Species and type;

d. Measurements;

e. Counts;

f. Start and end time, effectiveness, and buffer used;

g. Timestamp and number marked;

h. Number unmarked;

i. Release site, trap, and date/time;

j. Water quality type and temperature; and

k. Comments.

The data are collected by partnering States, Tribes, and other Federal agencies. The Service and our partners will use the collected data to inform decision makers in the Klamath Basin of real-time fish conditions and to help manage water resources in response to those conditions. The data are also used to generate annual reports summarizing the biological data, catch numbers, and fish health information. The catch and mark/recapture data are used to generate population estimates, which are also included in annual reports.

A copy of the data submission form is available to the public for viewing in the docket on the https://www.regulations.gov website, or by submitting an email request to the Service ICCO as provided in the FOR FURTHER INFORMATION CONTACT section of this notice.

Title of Collection: Klamath Basin Juvenile Salmon Monitoring Data System.

OMB Control Number: 1018-New.

Form Number: None.

Type of Review: New.

Respondents/Affected Public: State/Tribal government respondents.

Total Estimated Number of Annual Respondents: 8.

Total Estimated Number of Annual Responses: 700.

Estimated Completion Time per Response: 30 minutes for electronic submissions and 45 minutes for paper-based submissions.

Total Estimated Number of Annual Burden Hours: 375.

Respondent's Obligation: Voluntary.

Frequency of Collection: On occasion.

Total Estimated Annual Nonhour Burden Cost: $2,080.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-25882 Filed 11-6-24; 8:45 am]

BILLING CODE 4333-15-P